DEPARTMENT OF ENERGY

Federal Energy Regulatory Commission

[Docket No. ER05-849-000]

California Independent System Operator Corporation; Notice of Extension of Time

December 27, 2007.

On December 26, 2007, the Western Power Trading Forum (WPTF) filed a request for an extension of time to file an answer to the Public Utilities of the State of California's (CPUC) Motion to Supplement Request for Rehearing or, in the Alternative, to Supplement the CPUC's Response to the Motion For Clarification of the California Generators filed December 21, 2007, in the above-docketed proceeding (December 21 Motion). WPTF states that because of the intervening holidays and vacation schedules involving WPTF counsel and personnel, additional time is needed to coordinate and prepare a responsive filing.

Upon consideration, notice is hereby give that an extension of time for filing answers to the CPUC's December 21 Motion is granted and including January 14, 2008.

Kimberly D. Bose,
Secretary.

[FR Doc. E8-54 Filed 1-7-08; 8:45 am]

BILLING CODE 6717-01-P